DEPARTMENT OF HOMELAND SECURITY

Transportation Security Administration

Intent To Request Approval From OMB of One New Public Collection of Information: Generic Clearance for the Collection of Qualitative Feedback on Agency Service Delivery

AGENCY: Transportation Security Administration, DHS.

ACTION: 60-day notice.

SUMMARY: The Transportation Security Administration (TSA) invites public comment on a new Information Collection Request (ICR) abstracted below that we will submit to the Office of Management and Budget (OMB) for approval in compliance with the Paperwork Reduction Act (PRA). The ICR describes the nature of the information collection and its expected burden. The proposed information collection activity provides a means to gather qualitative customer and stakeholder feedback in an efficient, timely manner, in accordance with the Administration's commitment to improving service delivery.

DATES: Send your comments by July 16, 2012.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Susan L. Perkins at the above address, or by telephone (571) 227-3398.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose and Description of Data Collection

The proposed information collection activity provides a means to gather qualitative customer and stakeholder feedback in an efficient, timely manner, in accordance with the Administration's commitment to improving service delivery.

From the TSA perspective, qualitative customer and stakeholder feedback is information that provides useful insights on perceptions and opinions; it is different than the results of statistical surveys, which yield quantitative results that can be generalized to the population of study. This qualitative feedback will provide insights into customer or stakeholder perceptions, experiences, and expectations regarding TSA products or services, provide TSA with an early warning of issues with service, and focus attention on areas where improvement is needed regarding communication, training, or changes in operations that might improve delivery of products or services. These collections will allow for ongoing, collaborative, and actionable communications between the Agency and its customers and stakeholders. They will also allow feedback to contribute directly to the improvement of program management. The solicitation of feedback will target areas such as: Timeliness, appropriateness, accuracy of information, courtesy, efficiency of service delivery, and resolution of issues with service delivery. Responses will be assessed to plan and inform efforts to improve or maintain the quality of service offered by TSA. If this information is not collected, vital feedback from customers and stakeholders on the Agency's services will be unavailable.

The Agency will only submit a collection for approval under this generic clearance if it meets the following conditions:

• The collections are voluntary.

• The collections are low-burden for respondents (based on considerations of total burden hours, total number of respondents, or burden-hours per respondent) and are low-cost for both the respondents and the Federal Government.

• The collections are noncontroversial and do not raise issues of concern to other Federal agencies.

• Any collection is targeted to the solicitation of opinions from respondents who have experience with the program or may have experience with the program in the near future.

• Personally identifiable information (PII) is collected only to the extent necessary and is not retained.

As a general matter, information collections will not result in any new system of records containing privacy information and will not ask questions of a sensitive nature, such as sexual behavior and attitudes, religious beliefs, and other matters that are commonly considered private.

Preliminary estimates of the aggregate burden are based on a review of past behavior of participating program offices and several individual office estimates. The likely respondents to this proposed information request are State, Local or Tribal Government and Law Enforcement, traveling public, Individuals and Households, Businesses and Organizations. TSA estimates an average of 10 annual activities with approximately 12,500 respondents per activity for a total of 125,000 responses. TSA further estimates a frequency of one response per request with an average response time of 30 minutes resulting in an estimated 62,500 burden hours. Program offices will provide more refined individual estimates of burden in their subsequent notices.

Use of Results

Information gathered is intended to be used only internally for general service improvement and program management purposes and is not intended for release outside of the agency (if released, the agency must indicate the qualitative nature of the information). While the information gathered might be used to improve delivery of products or services, it will not be used for the purpose of substantially informing influential policy decisions.

Feedback collected under this generic clearance provides useful qualitative information, but it does not yield data that can be generalized to the overall population; it is not designed or expected to yield statistically reliable or actionable results. The information gathered will yield qualitative information. This type of generic clearance for qualitative information will not be used for quantitative information collections, such as monitoring trends over time or documenting program performance. Unlike this generic collection, quantitative data uses require more rigorous designs that address: The target population to which generalizations will be made, the sampling frame, the sample design (including stratification and clustering), the precision requirements or power calculations that justify the proposed sample size, the expected response rate, methods for assessing potential non response bias, the protocols for data collection, and any testing procedures that were or will be undertaken prior to fielding the study. Depending on the degree of influence the results are likely to have, there may be future information collection submissions for other generic mechanisms that are designed to yield quantitative results.

Dated: Issued in Arlington, Virginia, on May 11, 2012.
Susan L. Perkins,
TSA Paperwork Reduction Act Officer, Office of Information Technology.

[FR Doc. 2012-11855 Filed 5-15-12; 8:45 am]

BILLING CODE 9110-05-P